NATIONAL SCIENCE FOUNDATION

Notice of Intent To Seek Approval To Establish an Information Collection

AGENCY: National Science Foundation.

ACTION: Notice and request for comments.

SUMMARY: The National Science Foundation (NSF) is announcing plans to request establishment and clearance of this collection. In accordance with the requirements of the Paperwork Reduction Act of 1995, we are providing opportunity for public comment on this action. After obtaining and considering public comment, NSF will prepare the submission requesting that OMB approve clearance of this collection for no longer than one year.

DATES: Written comments on this notice must be received by August 13, 2018 to be assured of consideration. Comments received after that date will be considered to the extent practicable.

FOR ADDITIONAL INFORMATION CONTACT: Suzanne H. Plimpton, Reports Clearance Officer, National Science Foundation, 2415 Eisenhower Avenue, Room W18000, Alexandria, Virginia 22314; or send email to splimpto@nsf.gov. Individuals who use a telecommunications device for the deaf (TDD) may call the Federal Information Relay Service (FIRS) at 1-800-877-8339, which is accessible 24 hours a day, 7 days a week, 365 days a year (including federal holidays).

Instructions: Please submit one copy of your comments by only one method. All submissions received must include the agency name and collection name identified above for this information collection. Commenters are strongly encouraged to transmit their comments electronically via email. Comments, including any personal information provided become a matter of public record. They will be summarized and/or included in the request for Office of Management and Budget approval of the information collection request.

SUPPLEMENTARY INFORMATION: Title of Collection: Survey of NSF INCLUDES Principal Investigators and Program Participants.

OMB Control Number: 3145—NEW.

Type of Request: Intent to seek approval to establish an information collection.

Abstract: The primary objective of the survey is to collect data on the formation of partnerships between Alliance grantees and collaborating organizations for the National Science Foundation (NSF) Inclusion Across the Nation of Communities of Learners of Underrepresented Discoverers in Engineering and Science (INCLUDES) initiative. These data will be used to understand how these partnerships form a network infrastructure for leveraging innovative strategies and approaches to eradicate the persistent lack of diversity and underrepresentation in science, technology, engineering, and mathematics (STEM) fields. The goal of NSF INCLUDES is to support pioneering models, networks, partnerships, and research that enable the U.S. STEM workforce to thrive by ensuring all groups are represented in percentages comparable to their representation in the U.S. population. NSF INCLUDES Alliances leverage the collective efforts of launch pilot grantees, which have proposed and implemented diverse change strategies at a small scale, to catalyze NSF's broadening participation (BP) investments. Alliances build on the activities of launch pilot grantees, partners, collaborators, and networks to propose and implement solutions to address the barriers that result in underrepresentation in the STEM enterprise.

Data from the survey will provide NSF with critical information about the impact of networked, collaborative approaches on broadening participation in STEM. These data will also provide an understanding of the specific ways in which the change process of a networked, collaborative approach meets NSF's goal of scaling innovative solutions to this pervasive and complex problem. Additionally, these data will provide an understanding for how the NSF INCLUDES approach can be used by other federal agencies to address similarly difficult problems. This survey is one component of a research design that includes extensive analysis of secondary data; however, an understanding of network formation and interaction requires primary data collection from network participants. This type of data is not currently being collected elsewhere and is critical to developing a real-world understanding of how organizations work together within a federally funded collaborative.

The survey will collect the following data on entities within the Alliances:

• Partnerships and partnership history

• Frequency of interactions

• Types of interactions (goal alignment, activity coordination, etc.)

Respondents will be informed in advance that they will be receiving surveys, and they will be sent URL information for completing the surveys through email communication.

Need and Use of the Information: The primary purpose of this survey is to inform NSF about how organizations network and collaborate within the NSF INCLUDES initiative to leverage expertise and strategies to eliminate barriers to access to STEM for underrepresented minorities. These data will be used in conjunction with secondary data by the NSF INCLUDES contractor for program evaluation in conducting a social network analysis (SNA) of Alliance grantees and their partners. From the survey and SNA, NSF will gain an understanding of how participants in the NSF INCLUDES initiative have formed a “network of networks” to implement programs to increase diversity in STEM. Further, the data will show the strength and health of the network, indicating if and how participants increase capacity to address the problem by developing partnerships with other organizations. Through understanding how a networked, collaborative approach works to reduce the pervasive impact of a lack of diversity in STEM, NSF and other federal agencies can learn from and utilize similar strategies to address persistently difficult and complex issues.

Affected Public: The population for the survey includes all organizations that are NSF INCLUDES Alliance grantees. These organizations represent a variety of organization types, including universities, federal research laboratories, PreK-12 schools, and nonprofits. The survey requests that one individual from each organization provide responses that represent the networking activities of that organization.

Total Respondents: Approximately 100 individuals representing the universe of participating NSF INCLUDES Alliance organizations.

Frequency: Twice within a time period of approximately 5 months. The participating organizations will be surveyed twice to capture networking activity at early and later stages of grants.

Total Responses: 200.

Average Time per Response: There are 12 items that a respondent needs to answer for each organization in their Alliance. It will take approximately 20 seconds to respond to each of these 12 items (4 minutes/Alliance organization). The total burden is calculated based on the time for an Alliance with the average number of 30 organizations (30 × 4 = 120 minutes/per administration). Each of the approximately 100 individuals will take the survey twice for a burden of 240 minutes each.

The survey will take an estimated 120 minutes for each respondent to complete. Surveys will be tailored to each of the three Alliances to only include the portion of the approximately 100 organizations with which the respondent organization has partnered. Each Alliance is composed of an estimated 30 organizations.

Total Burden Hours (annual estimate): 400.

Dated: June 6, 2018.
Suzanne H. Plimpton,
Reports Clearance Officer, National Science Foundation.

[FR Doc. 2018-12616 Filed 6-11-18; 8:45 am]

BILLING CODE 7555-01-P